DEPARTMENT OF HEALTH AND HUMAN SERVICES

Administration for Children and Families

[Program Announcement No. ACYF-PA-CCB-2003-01]

Early Learning Opportunities Act Discretionary Grants

AGENCY: Administration on Children, Youth and Families (ACYF), ACF, DHHS.

ACTION: Announcement of the availability of competitive grants to Local Councils.

SUMMARY: The purpose of this program announcement is to announce the availability of Fiscal Year 2003 Discretionary Funds, authorized by Congress under the Consolidated Appropriations Act of 2003 (Pub. L. 108-7), for Early Learning Opportunities Act (ELOA) (Pub. L. 106-554) competitive discretionary grants to Local Councils.

The Catalog of Federal Domestic Assistance Number is 93.577.

DATES: The closing date for submission of applications is August 6, 2003. Mailed applications postmarked after the closing date will be classified as late and therefore will not be eligible for competition.

Deadline: Mailed applications shall be considered as meeting an announced deadline if they are sent on or before the deadline date and received by ACF in time for the independent review. Applications must be sent to: Educational Services, Inc., Attn: ACYF Operations Center, Child Care Bureau Program Announcement No. ACYF-PA-CCB-2003-01, 1150 Connecticut Avenue, NW., Suite 1100, Washington, DC 20036, Telephone: 1-800-351-2293.

Applicants must ensure that a legibly dated U.S. Postal Service postmark or a legibly dated, machine-produced postmark of a commercial mail service is affixed to the envelope/package containing the application(s). To be acceptable as a proof of timely mailing, a postmark from a commercial mail service must include the logo/emblem of the commercial mail service company and must reflect the date the package was received by the commercial mail service company from the applicant. Private metered postmarks will not be acceptable as proof of timely mailing. (Applicants are cautioned that express/overnight mail services do not always deliver as agreed.)

Applications hand carried by applicants, applicant couriers, or by other representatives of the applicant shall be considered as meeting an announced deadline if they are received on or before the deadline date, between the hours of 9 a.m. and 4:30 p.m., EDT, Monday through Friday (excluding Federal holidays) at the above address. (Applicants are cautioned that express/overnight mail services do not always deliver as agreed.)

ACF cannot accommodate transmission of applications by fax or through other electronic media, regardless of date or time of submission and receipt. Therefore, applications transmitted to ACF electronically will not be accepted.

Late Applications: Applications that do not meet the criteria stated above are considered late applications. ACF will notify each late applicant that its application will not be considered in the current competition.

Extension of Deadlines: ACF may extend an application deadline for applicants affected by acts of God such as floods and hurricanes, when there is widespread disruption of mail service, or for other disruptions of services, such as a prolonged blackout, that affect the public at large. A determination to extend or waive deadline requirements rests with the Chief Grants Management Officer.

Notice of Intent to Submit an Application: If you intend to submit an application, you are strongly encouraged to notify the Child Care Bureau by fax at (202) 690-5600 at least three weeks prior to the submission deadline date. Your fax should be sent to Ms. Taryonka Reid and include the following information: The number and title of this announcement; the name and address of the Local Council; and your contact person's name, phone number, fax number, and e-mail address. The information will be used to determine the number of expert reviewers needed to evaluate applications and to update the mailing list for future program announcements.

FOR FURTHER INFORMATION CONTACT: A copy of this Program Announcement and the necessary forms can be obtained by calling 1-800-351-2293. Copies of this Program Announcement can also be downloaded approximately 10 days after publication in the Federal Register from the Child Care Bureau's Web site at http://www.acf.hhs.gov/programs/ccb/. There are standard forms that must be submitted along with your application. All of the necessary standard forms to accompany your application can be downloaded from the following Web site: http://www.acf.hhs.gov/programs/ofs/forms.htm#apps.

To ask questions about the application process, you are encouraged to call the ACYF Operations Center at 1-800-351-2293. If you have programmatic questions about the ELOA discretionary grant program, you may contact Carol L. Gage, Federal Project Officer at (202) 690-6243 or cgage@acf.hhs.gov or Sylvia Johnson, Grants Officer at (202) 401-4524 or syjohnson@acf.hhs.gov.

SUPPLEMENTARY INFORMATION: The contents of the ACF Uniform Discretionary Grant Application for this program as well as preparation instructions are contained in this program announcement.

This Supplementary Information section contains all the instructions needed to apply for a grant under this announcement.

The Supplementary Information section consists of six parts and four appendices. Part I includes background information on the Child Care Bureau, general information about the Early Learning Opportunities Act program, a description of the goals and priorities related to this announcement, and relevant definitions. Part II contains key program information and requirements such as project duration, allowable activities, funding requirements, and eligibility. Part III contains the general instructions for preparing the Uniform Project Description. Part IV contains the evaluation criteria upon which applications will be reviewed and evaluated. Part V describes the application and selection process. Part VI provides the required contents of the application as well as instructions for submission. Appendix A is a sample Letter of Designation of the Local Council by an Entity of Local Government. Appendix B is a sample Letter of Designation of the Local Council and Identification of the Fiscal Agency by an Entity of Local Government. Appendix C is a sample format for providing information about the composition of the Local Council. Appendix D is a list of the Fiscal Year 2001 ELOA grantees and the geographic areas they serve. Appendix E is a list of the Fiscal Year 2002 ELOA grantees and the geographic areas they serve.

The contents of the Supplementary Information section are outlined below:

Table of Contents

Part I. General Information

A. The Child Care Bureau

B. The Early Learning Opportunities Act

C. Early Learning Opportunities Act Grants—Goals and Priorities

D. Definitions

Part II. Program Information and Requirements

A. Purposes

B. Citations

C. Number of Awards

D. Project Duration and Budget Period

E. Funding Levels and Reservations

F. Allowable Early Learning Activities

G. Non-Federal Share of Project Costs

H. Other Financial Requirements

I. Eligibility

J. Protections

Part III. General Instructions for Preparing the Uniform Project Description

Part I—The Project Description Overview

A. Purpose

B. General Instructions

Part II—General Instructions for Preparing a Full Project Description

A. Project Summary/Abstract

B. Objectives and Need for Assistance

C. Results and Benefits Expected

D. Approach

E. Evaluation

F. Geographic Location

G. Additional Information

H. Budget and Budget Justification

Part IV. Evaluation Criteria

Criterion 1. Objectives and Need for Assistance

Criterion 2. Approach

Criterion 3. Results and Benefits Expected

Criterion 4. Evaluation

Criterion 5. Additional Information

Criterion 6. Budget and Budget Justification

Part V. Application and Selection Process

A. Assistance to Prospective Grantees

B. Application Requirements

C. Paperwork Reduction Act of 1995

D. Notification under Executive Order 12372

E. Availability of Forms and Other Materials

F. Application Consideration and Selection

Part VI. Submission Instructions

A. Contents of Application

B. Submission of Application

Appendix A. Sample 1—Letter of Designation of the Local Council by an Entity of Local Government

Appendix B. Sample 2—Letter of Designation of the Local Council and Identification of the Fiscal Agent by an Entity of Local Government

Appendix C. Sample Format for Providing Information on the Composition of the Local Council

Appendix D. List of Fiscal Year 2001 ELOA Grantees and Geographic Service Areas

Appendix E. List of Fiscal Year 2002 ELOA Grantees and Geographic Service Areas

Part I. General Information

A. The Child Care Bureau

The Child Care Bureau was established in 1995 to provide leadership to efforts to enhance the quality, affordability, and supply of child care. The Child Care Bureau administers the Child Care and Development Fund (CCDF), a $4.8 billion child care program that includes funding for child care subsidies and activities to improve the quality and availability of child care. CCDF was created after amendments to ACF child care programs by Title VI of the Personal Responsibility and Work Opportunity Reconciliation Act of 1996 consolidated four Federal child care funding streams including the Child Care and Development Block Grant, AFDC/JOBS Child Care, Transitional Child Care, and At-Risk Child Care. With related State and Federal funding, CCDF provides more than $11 billion a year to States, Territories, and Tribes to help low-income working families access child care services.

The Bureau works closely with ACF Regional Offices, States, Territories, and Tribes to assist with, oversee, and document implementation of new policies and programs in support of State, local, and private sector administration of child care services and systems. In addition, the Bureau collaborates extensively with other offices throughout the Federal government to promote integrated, family-focused services, and coordinated child care delivery systems. In all of these activities, the Bureau seeks to enhance the quality, availability, and affordability of child care services, support children's healthy growth and development in safe child care environments, enhance parental choice and involvement in their children's care, and facilitate the linkage of child care with other community services.

B. The Early Learning Opportunities Act

The Early Learning Opportunities Act (ELOA) was passed by Congress to award grants to States to enable them to increase, support, expand and better coordinate early learning opportunities for children and their families through local community organizations. The purposes of the Act are to: (1) Increase the availability of voluntary programs, services, and activities that support early childhood development, increase parent effectiveness, and promote the learning readiness of young children so that they enter school ready to learn; (2) support parents, child care providers, and caregivers who want to incorporate early learning activities into the daily lives of young children; (3) remove barriers to the provision of an accessible system of early childhood learning programs in communities throughout the United States; (4) increase the availability and affordability of professional development activities and compensation for caregivers and child care providers; and (5) facilitate the development of community-based systems of collaborative service delivery models characterized by resource sharing, linkages between appropriate supports, and local planning for services.

The Act provides that if the amount appropriated for this program in any fiscal year is less than $150 million, the Department of Health and Human Services (DHHS) shall award grants on a competitive basis directly to Local Councils. DHHS is administering the program under this special provision in Fiscal Year (FY) 2003.

C. Early Learning Opportunities Act Grants—Goals and Priorities

In FY 2003, grants will be awarded, on a competitive basis, directly to those Local Councils that can best assess their community needs and create a plan to facilitate the development of community-based systems and collaborative service delivery models.

ELOA grants will be available to Local Councils that have been so designated by a local government entity, Indian Tribe, Regional Corporation, or Native Hawaiian entity. Local Councils will be required to submit the results of a current needs and resources assessment, documenting the needs of the young children and families in their locality, as well as a local plan that addresses the most significant needs. To receive an ELOA grant, the plan must include activities for “Enhancing Early Childhood Literacy,” and two or more of the other allowable ELOA activities specified in Part II, F. The implementation plan must describe the outcome measures and an evaluation plan for each proposed activity.

In developing local plans and applications under this announcement, ACF encourages Local Councils to incorporate strategies to promote the involvement of faith-based providers.

D. Definitions

Administrative Costs—means costs related to the overall management of the program, which do not directly relate to the provision of program services. These costs can be in both the personnel and non-personnel budget categories and include, but are not limited to: Salaries of managerial and administrative staff, indirect costs, and other costs associated with administrative functions such as accounting, payroll services, or auditing. Note: Not more than three percent of the total Federal share received by the Local Council through this announcement shall be used to pay for the “administrative costs” of the Local Council, including administrative costs of any sub-grantees and third parties in carrying out activities funded under the grant.

Budget Period—for the purposes of this announcement, budget period means the 17-month period of time for which ELOA funds are made available to a particular grantee (i.e., beginning on September 30, 2003, and ending on February 28, 2005).

Caregiver—means an individual, including a relative, neighbor, or family friend, who regularly or frequently provides care, with or without compensation, for a child for whom the individual is not the parent.

Child Care Provider—means a provider of non-residential child care services (including center-based, family-based, and in-home child care services) for compensation who or that is legally operating under State law, and in compliance with applicable State and local requirements for the provision of child care services.

Early Learning—when used with respect to a program or activity, means learning designed to facilitate the development of cognitive, language, motor, and social-emotional skills for, and to promote learning readiness in, young children (see definition of young child).

Early Learning Program—means a program of services or activities that helps parents, caregivers, and child care providers to incorporate early learning into the daily lives of young children; or a program that directly provides early learning to young children.

Indian Tribe—has the meaning given the term in section 4 of the Indian Self-Determination and Education Assistance Act (25 U.S.C. 450b).

Local Council—means a Local Council established or designated by a local government, Indian Tribe, Regional Corporation, or Native Hawaiian entity to serve as applicant under this announcement serving one or more localities.

Local Government—means a county, municipality, city, town, township, borough, parish, select board, council of local governments (whether or not incorporated as a non-profit corporation under State law), intra-state district, a general purpose unit of local government, and any other interstate or regional unit of local government. “Local Government” does not mean any of the 50 States, or any agency or instrumentality of a State exclusive of local governments.

Locality—means a city, county, borough, township, or area served by another general purpose unit of local government, an Indian Tribe, a Regional Corporation, or a Native Hawaiian entity.

Native Hawaiian Entity—means a private non-profit organization that serves the interests of Native Hawaiians, and is recognized by the Governor of Hawaii for the purpose of planning, conducting, or administering programs (or parts of programs) for the benefit of Native Hawaiians.

Non-Federal Share—means that portion of project costs not borne by the Federal government. Under ELOA, the minimum required Non-Federal Share is 15 percent of the total cost of the approved project.

Parent—means a biological parent, an adoptive parent, a stepparent, a foster parent, or a legal guardian of, or a person standing in loco parentis to a child.

Program Income—means gross income earned by the grantee or subgrantee that is directly generated by a grant supported activity, or earned only as a result of the award. 45 CFR parts 74 and 92 include similar types of earned revenue, which qualify as program income. These include but are not limited to income from fees for services performed and the use of rental property.

Project Period—for the purposes of this announcement, project period means the 17-month period starting on September 30, 2003, and ending on February 28, 2005.

Real Property—means land, including land improvements, structures and appurtenances thereto, excluding movable machinery and equipment.

Regional Corporation—means a Native Alaska Regional Corporation; an entity listed in section 419(4)(B) of the Social Security Act (42 U.S.C. 619(4)(B)).

Training—means instruction in early learning that—(a) is required for certification under State and local laws, regulations, and policies; (b) is required to receive a nationally or State recognized credential or its equivalent; (c) is received in a postsecondary education program focused on early learning or early childhood development in which the individual is enrolled; or (d) is provided, certified, or sponsored by an organization that is recognized for its expertise in promoting early learning or early childhood development.

Young Child—for purposes of this program, means any child from birth to the age of mandatory school attendance in the State where the child resides.

Part II. Program Information and Requirements

A. Purposes

The purposes of the Early Learning Opportunities Act (ELOA) are—

• To increase the availability of voluntary programs, services, and activities that support early childhood development, increase parent effectiveness, and promote the learning readiness of young children so that they enter school ready to learn;

• To support parents, child care providers, and caregivers who want to incorporate early learning activities into the daily lives of young children;

• To remove barriers to the provision of an accessible system of early childhood learning programs in communities throughout the United States;

• To increase the availability and affordability of professional development activities and compensation for caregivers and child care providers; and

• To facilitate the development of community-based systems of collaborative service delivery models characterized by resource sharing, linkages between appropriate supports, and local planning for services.

B. Citations

1. Sponsorship: Grants being awarded under this announcement are sponsored by the Child Care Bureau (the Bureau) of the Administration on Children, Youth and Families (ACYF) in the Administration for Children and Families (ACF), U.S. Department of Health and Human Services (DHHS). The Bureau will manage the grants.

2. Funding Authority: Funding is provided by ACF under the Consolidated Appropriations Act of 2003 (Pub. L. 108-7 and Pub. L. 106-554, the Early Learning Opportunities Act.)

C. Number of Awards

The Bureau estimates that up to 50 grants will be awarded in FY 2003, subject to the availability of funds and the results of the review process.

D. Project Duration and Budget Period

The project period for all ELOA grants will be 17 months and will begin on September 30, 2003, and end on February 28, 2005.

E. Funding Levels and Reservations

Individual awards will be between $250,000 and $1,000,000 depending on the size of the population to be served as well as geographic area to be served and the reasonableness of the budget in relationship to the services to be provided. While this will vary depending on the scope of the applications submitted, awards are expected to average $700,000. Applicants that request Federal funds in excess of $1,000,000 will be considered “non-responsive” and will be returned to the applicant without further review.

The Act (section 809) provides that the Secretary shall reserve a portion of each year's total ELOA appropriation for Indian Tribes, Regional Corporations, and Native Hawaiian entities. ACF anticipates competitively awarding funds to at least one Local Council designated by an Indian Tribe and one Local Council designated by an Alaska Native Regional Corporation or Native Hawaiian entity, subject to receipt of applications meeting the requirements of the Act as reflected in this announcement. ACF is setting aside no less than one percent of the FY 2003 ELOA appropriation for these purposes.

F. Allowable Early Learning Activities

In general, Local Councils may use ELOA funds to pay for developing, operating, or enhancing voluntary early learning programs that are likely to produce sustained gains in early learning. The President has identified the enhancement of early childhood literacy as a priority for this administration. Therefore, for FY 2003 grants, the Child Care Bureau will only consider for funding those Local Councils that include in their applications activities for “Enhancing Early Childhood Literacy” (see Item 1. below), AND two or more of the other allowable activities listed below (i.e., Items 2 through 8).

The Project Summary/Abstract must contain statements that clearly identify which of the following allowable early learning activities are included in the project.

1. Enhancing early childhood literacy AND two or more of the following allowable activities:

2. Helping parents, caregivers, child care providers, and educators increase their capacity to facilitate the development of cognitive, language comprehension, expressive language, social emotional, and motor skills, and promote learning readiness;

3. Promoting effective parenting;

4. Developing linkages among early learning programs within a community and between early learning programs and health care services for young children;

5. Increasing access to early learning opportunities for young children with special needs including developmental delays, by facilitating coordination with other programs serving such young children;

6. Increasing access to existing early learning programs by expanding the days or times that the young children are served, by expanding the number of young children served, or by improving the affordability of the programs for low-income families;

7. Improving the quality of early learning programs through professional development and training activities, increased compensation, and recruitment and retention incentives for early learning providers;

8. Removing ancillary barriers to early learning, including transportation difficulties and absence of programs during nontraditional work times.

G. Non-Federal Share of Project Costs

Grantees must provide at least 15 percent of the total approved project cost. The total approved project cost is the sum of the Federal share and the non-Federal share. Therefore, a project requesting $500,000 in Federal funds must include a match of at least $88,235 (15 percent of the total approved project cost). To compute the non-Federal share divide the Federal share by .85 and subtract the Federal share from that amount. For example: $500,000 ÷ .85 = $588,235 − $500,000 = $88,235. The total approved project cost in this example is $588,235.

The non-Federal share may be contributed in cash or in-kind, fairly evaluated, including facilities, equipment, or services, which may be provided from State or local public sources, or through donations from private entities. For the purposes of this paragraph, the term “facilities” includes the use of facilities, but, the term “equipment” means donated equipment and not the use of equipment. Applicants are strongly discouraged from providing non-Federal share resources in excess of the required 15 percent. Applicants that provide more than the required 15 percent will not receive any additional credit or points under the evaluation criteria.

Applicants are encouraged to provide Letter(s) of Commitment from the State, local public and private organizations/agencies, and any other source that will be contributing toward the Applicant's non-Federal share of project costs. The Letter(s) of Commitment should state the amount to be contributed and the form of the contribution (i.e., cash or in-kind). Note: Letter(s) of Commitment are not to be confused with Letter(s) of Support or with the Letter of Designation by an Entity of Local Government.

Applicants that are awarded an ELOA grant (Grantees) will be held accountable on the grant award for commitments of the non-Federal share even if the approved amount exceeds the required minimum of 15 percent. Failure, by the Grantee to provide the amount of the non-Federal share specified on the grant award when the grant is closed-out, may result in a proportionate reduction of the Federal share or other disallowance action (e.g., Grantee returns Federal funds). Grantees should be aware that they may not be allowed post-award to reduce any excess amount of the non-Federal share if they contribute more than the minimum 15 percent required.

H. Other Financial Requirements

1. Amounts received shall be used to supplement and not supplant other

Federal, State, and local public funds expended to promote early learning. No funds provided shall be used to carry-out an activity funded under another provision of law providing for Federal child care or early learning programs, unless an expansion of such activity is identified in the local needs assessment and performance goals.

2. Not more than three percent of the total Federal share received by the Local Council through this announcement shall be used to pay for the administrative costs (as defined in Part I, D.) of the Local Council, including the administrative costs of any of its sub-grantees and third parties, in carrying-out activities funded under the grant.

3. Local Councils receiving assistance under the ELOA shall ensure that programs, services, and activities assisted under this program, which customarily require a payment for such programs, services, or activities, adjust the cost of such programs, services, and activities provided to the individual or the individual's child based on the individual's ability to pay.

4. Applications proposing to use ELOA funds for construction purposes or for the purchase of real property will not be considered for funding.

5. Any non-profit organization submitting an application must submit proof of its non-profit status at the time of submission. The non-profit agency can accomplish this by providing a copy of the applicant's listing in the Internal Revenue Service's (IRS) most recent list of tax-exempt organizations described in section 501(c)(3) of the IRS code, or by providing a copy of the currently valid IRS tax exemption certificate, or by providing a copy of the articles of incorporation bearing the seal of the State in which the corporation or association is domiciled, or any of the items above for a State or national parent organization and a statement signed by the parent organization that the applicant organization is a local non-profit affiliate. Private, non-profit organizations are encouraged to submit with their applications the optional survey located under “Grant Manuals & Forms” at http://www.acf.hhs.gov/programs/ofs/forms.htm.

6. For-profit organizations submitting an application must provide a letter stating that their fees/profits will be waived if awarded an ELOA grant.

I. Eligibility

1. Letter(s) of Designation (Designation of Local Council by Local Government Entity)

An eligible applicant for an FY 2003 ELOA grant must be a Local Council designated, in writing, by a local government entity(ies) (or Indian Tribe, Regional Corporation, or Native Hawaiian entity) as a “Local Council” to serve one or more localities for the purpose of applying for an ELOA discretionary grant. The applicant must include a “Letter of Designation” in its application from an appropriate local government entity(ies) specifically designating it as the Local Council for the purpose of applying for an ELOA grant.

Because the structure and authority of local governments differ greatly across the nation, and even within a State, it is the responsibility of the applicant to determine and identify the appropriate entity(ies) of local government to designate them as the Local Council for an ELOA grant application. Examples of local government entities include but are not limited to: Mayors, city managers, city councils, county boards of supervisors, county boards of commissioners, county administrators, Tribal Councils, boards of municipal officers, etc. The local government entity(ies) making the designation must also clearly explain in its letter the source/nature of its authority to make such a designation on behalf of the locality(ies) it represents.

Applicants serving multiple localities (e.g., cities, townships, boroughs, counties) are strongly encouraged to obtain a Letter of Designation from an appropriate entity of local government from each of the localities to be served. Appendices A and B are sample Letters of Designation that meet this eligibility requirement. Applicants are strongly encouraged to tilize the language and format provided in the sample Letters of Designation. Appendix A is a sample Letter of Designation of the Local Council when the services of a Fiscal Agent will not be used, while Appendix B is a sample Letter of Designation for a Local Council that will use a Fiscal Agent.

“Letter(s) of Support” for the Local Council from a local government entity(ies) will not be considered as meeting the eligibility requirements for a Letter of Designation. Applications that do not include a Letter of Designation from an appropriate entity of local government will be disqualified and not competed for an award.

Applicants from Indian Tribes and Regional Corporations must include a tribal resolution from the governing body of the Tribe(s) or Regional Corporation(s), designating a Local Council for the purpose of the ELOA. In general, the Tribal Council would not be considered a Local Council for ELOA unless its membership also meets the composition requirements described below (see Composition of Local Council).

“State” governments do not meet the definition of “Local Government” (see Part I (D)). Therefore, a Letter(s) of Designation from an entity(ies) of State Government will not be considered as meeting these eligibility requirements.

Local Councils that were formed prior to the date of enactment of the ELOA and that meet the membership requirements below will be considered eligible for the purposes of applying for an ELOA grant if a Letter(s) of Designation from an appropriate entity(ies) of local government is submitted as part of the application. In localities where a Local Council does not exist, one may be formed and designated for the purposes of applying for an ELOA grant.

In addition, Local Councils may be faith-based organizations or may include faith-based organizations in their membership, provided that the eligibility criteria outlined below are met.

2. Composition of a Local Council

To receive an award, the membership of the Local Council must be composed of:

a. Representatives of local agencies that will be directly affected by early learning programs assisted under the ELOA and this announcement;

b. Parents;

c. Other individuals concerned with early learning issues in the locality, such as representatives of entities providing elementary education, child care resource and referral services, early learning opportunities, child care, and health services; and

d. Other key community leaders.

3. Local Council as Applicant and Designation of Fiscal Agent

The Local Council must be the applicant under this announcement (See Application for Federal Assistance, SF-424, Items 5-7) and, if selected to receive a grant, will be responsible for ensuring compliance with all activities and terms of the grant.

A Local Council may enter into an agreement with an entity that is affected by, or concerned with early learning issues, and that has a demonstrated capacity for administering grants, to serve as Fiscal Agent for the administration of grant funds received by the Local Council under this program. This may include faith-based organizations or a State.

When a Local Council will use a Fiscal Agent, the Fiscal Agent's name and Employer Identification Number (EIN) must be included in the “Letter of Designation” (See Appendix B). In such instances, identifying information for the Local Council is entered in Item 5 (Applicant Information, Legal Name) and Item 7 (Type of Applicant), and the EIN for the Fiscal Agent is entered in Item 6 on the Application for Federal Assistance (SF-424).

4. Geographic Location and Locality(ies) To Be Served

Applicants must describe the precise location of the project and boundaries of the area to be served at the beginning of the Project Description Summary/Abstract (see Part III, A. below) including the following: the State, county(ies), and specific locality(ies) (e.g., city, town, township, borough, parish, or area served by another general purpose unit of local government, Indian Tribe, Regional Corporation (Alaska), or Native Hawaiian entity).

a. Applications received from different applicants (Local Councils) that are proposing to serve the same or overlapping geographic areas will be disqualified and not competed for an award. For example, if a Local Council proposing to serve all of County X applies, and a Local Council proposing to serve only Community A, which is within County X, also applies, both applications will be excluded from the review and not competed for an award.

b. Applicants proposing to serve all or part of a geographic area currently being served by an ELOA grantee whose grant is expected to be in effect on September 30, 2003 will be excluded and not competed for an award (See Appendices D and E).

5. Other Eligibility Information

a. Local Councils in each of the 50 States of the United States, the District of Columbia, and the Commonwealth of Puerto Rico are eligible to apply under this announcement.

b. FY 2001 ELOA grantees whose grant project period ends on or before September 29, 2003 are eligible to apply for a FY 2003 grant under this program announcement. Note: The project period for grantees is noted in Block 9 of the “Financial Assistance Award” document.

c. To be considered eligible for a new award, applicants may not have a pending request to extend their existing ELOA grant project period beyond September 29, 2003.

d. The 31 Local Councils (and the localities served by those Local Councils) that received FY 2002 ELOA grants will not be considered for FY 2003 awards under this announcement (See Appendix E).

e. Only Local Councils, not individuals or individual organizations/agencies, are eligible to apply under this announcement.

f. Applicants proposing to use ELOA funds for construction purposes or for the purchase of real property will be disqualified and not competed for an award.

g. “Letter(s) of Support” for the Local Council from a local government entity(ies) will not be considered as meeting the eligibility requirements for a “Letter of Designation.” Applications from Local Councils that do not include a Letter of Designation from an appropriate entity of local government will be disqualified and not competed for an award.

h. Applications from Local Councils that are designated as the Local Council by an entity of State Government only, and not by an entity(ies) of local government, will be disqualified and not competed for an award.

J. Protections

1. No person, including a parent, shall be required to participate in any program of early childhood education, early learning, parent education, or developmental screening pursuant to the provisions of the Early Learning Opportunities Act.

2. Nothing in the Early Learning Opportunities Act shall be construed to affect the rights of parents otherwise established in Federal, State, or local law.

3. No entity that receives funds under the Early Learning Opportunities Act shall be required to provide services under this announcement through a particular instructional method or in a particular instructional setting to comply with the ELOA.

Part III. General Instructions for Preparing the Uniform Project Description

Part I—The Project Description—Overview

A. Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

B. General Instructions

ACF is particularly interested in specific factual information and statements of measurable goals in quantitative terms. Project descriptions are evaluated on the basis of substance, not length. Extensive exhibits are not required. Cross-referencing should be used rather than repetition. Supporting information concerning activities that will not be directly funded by the grant or information that does not directly pertain to an integral part of the grant-funded activity should be placed in an appendix.

Pages should be numbered and a table of contents should be included for easy reference.

Part II—General Instructions for Preparing A Full Project Description

A. Project Summary/Abstract

Provide a summary of the project description (a page or less) with reference to the funding request.

B. Objectives and Need for Assistance

Clearly identify the physical, economic, social, financial, institutional, and/or other problem(s) requiring a solution. The need for assistance must be demonstrated and the principal and subordinate objectives of the project must be clearly stated; supporting documentation, such as letters of support from concerned parties other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

C. Results and Benefits Expected

Identify the results and benefits to be derived. For example, explain how your proposed project will achieve the specific goals and objectives you have set; specify the number of children and families to be served, and how the services to be provided will be funded consistent with the local needs assessment. Or, explain how the expected results will benefit the population to be served in meeting its needs for early learning services and activities. What benefits will families derive from these services? How will the services help them? What lessons will be learned which might help other agencies and organizations that are addressing the needs of a similar client population?

D. Approach

Outline a plan of action, which describes the scope and detail of how the proposed work will be accomplished. Account for all functions or activities identified in the application. Cite factors, which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. For example, for any project that will include informal caregivers, including friends, family and in-home child care providers, or caregivers who are somewhat isolated, such as child care providers who operate alone or in rural areas, please describe the means by which training and technical assistance will be made available to such informal and/or isolated caregivers and quality child care will be supported/assured. The Child Care Bureau is interested in encouraging the appropriate use of innovative approaches, especially including distance learning techniques and other uses of technology, to meeting the needs of child care providers and parents. If distance learning techniques, such as use of public television, satellite downlinks, or internet-based instruction, will be used for this purpose, please describe those techniques. When accomplishments cannot be quantified by activity or function, list them in chronological order to show the schedule of accomplishments and their target dates.

If any data is to be collected, maintained, and/or disseminated, clearances may be required from the U.S. Office of Management and Budget (OMB). This clearance pertains to any “collection of information that is conducted or sponsored by ACF.”

List organizations, cooperating entities, consultants, or other key individuals who will work on the project along with a short description of the nature of their effort or contribution.

E. Evaluation

Provide a narrative addressing how the results of the project and the conduct of the project will be evaluated. In addressing the evaluation of results, state how you will determine the extent to which the project has achieved its stated objectives, and the extent to which the accomplishment of objectives can be attributed to the project. Discuss the criteria to be used to evaluate results, and explain the methodology that will be used to determine if the needs identified and discussed are being met, and if the project results and benefits are being achieved. With respect to the conduct of the project, define the procedures to be employed to determine whether the project is being conducted in a manner consistent with the work plan presented and discuss the impact of the project's various activities on the project's effectiveness.

F. Geographic Location

Describe the precise geographic location of the project and boundaries of the area to be served by the proposed project. Maps or other graphic aids may be attached.

G. Additional Information

Following are requests for additional information that need to be included in the application:

1. Organizational Profiles

Provide information on the applicant organizations(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in section 501(c)(3) of the IRS code, or by providing a copy of the currently valid IRS tax exemption certificate; or by providing a copy of the articles of incorporation bearing the seal of the State in which the corporation or association is domiciled.

2. Staff and Position Data

Provide a biographical sketch for each key person appointed and a job description for each vacant key position. A biographical sketch will also be required for new key staff as appointed.

3. Third-Party Agreements

Include written agreements between grantees and subgrantees or subcontractors or other cooperating entities. These agreements must detail scope of work to be performed, work schedules, remuneration, and other terms and conditions that structure or define the relationship.

4. Letters of Support

Provide statements from the community, public and commercial leaders that support the project proposed for funding. All submissions should be included in the application OR by application deadline.

5. Plan for Project Continuance Beyond Grant Support

Provide a plan for securing resources and continuing project activities after Federal assistance has ceased.

H. Budget and Budget Justification

Provide line item detail and detailed calculations for each budget object class identified in the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following are guidelines for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information, which supports the amount requested.

Contractual

Description: Costs of all contracts for services and goods except for those that belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative.

Justification: Provide computations, a narrative description, and a justification for each cost under this category.

Indirect Charges

Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source, and anticipated use of program income in the budget or refer to the pages in the application, which contain this information.

Non-Federal Resources

Description: Amounts of non-Federal resources that will be used to support the project as identified in Block 15 of the SF-424.

Justification: The firm commitment of these resources must be documented and submitted with the application in order to be given credit in the review process. A detailed budget must be prepared for each funding source.

Total Direct Charges, Total Indirect Charges, Total Project Costs

[Self-explanatory]

Part IV. Evaluation Criteria

Criterion 1. Objectives and Need for Assistance (25 Points)

1. The extent to which the applicant demonstrates the need for assistance including identification and discussion of its needs and resources assessment concerning early learning services and the relevancy of the results as the basis for determining its objectives and need for assistance for early learning services. Relevant data from the needs and resources assessment should be included. Participant and beneficiary information must also be included.

2. The extent to which the applicant describes the context of the proposed project, including the characteristics of the community, magnitude and severity of the problem, and the needs to be addressed.

3. The extent to which the applicant presents a vision of the project it anticipates developing; defines its goals and specific measurable objectives of the project; describes how its goals and objectives are linked together; and explains how implementation will fulfill the purposes of the ELOA. The applicant must demonstrate an understanding that goals are end products of a project, while objectives are measurable steps toward attainment of the goals. The applicant must demonstrate a thorough understanding of the importance of early learning services and activities that help parents, caregivers, and child care providers incorporate early learning into the daily lives of young children, as well as programs that directly provide early learning to young children.

4. The extent to which the applicant demonstrates how it will support activities/projects that maximize the use of resources through collaboration with other early learning programs, provide continuity of services for young children across the age spectrum, and help parents and other caregivers promote early learning with their young children. The applicant must provide information about how decisions will be made about who will provide each early learning service and/or activity funded through this grant.

5. The extent to which the applicant demonstrates that it has worked with local education agencies to identify cognitive, social, and emotional, and motor developmental abilities which are necessary to support children's readiness for school; that the programs, services, and activities assisted under this title will represent developmentally appropriate steps toward the acquisition of those abilities; and, that the programs, services, and activities assisted provide benefits for children cared for in their own homes as well as children placed in the care of others.

Criterion 2. Approach (25 Points)

1. The extent to which the applicant describes its project design, services, product development and dissemination. The applicant should present an approach that: (a) Reflects an understanding of the characteristics, needs, and services currently available to the target population; (b) is based on current theory, research, and/or best practices; (c) is appropriate and feasible; (d) can be reliably evaluated; (e) could be replicated, if successful; and (f) can be sustained after Federal funding has ceased.

2. The extent to which the applicant includes a detailed plan that identifies goals and objectives, relates those goals and objectives to the findings of its needs and resources assessment, and provides a work plan identifying specific activities necessary to accomplish the stated goals and objectives. The plan must demonstrate that each of the project objectives and activities supports the current needs and resource assessment and can be accomplished with the available or expected resources during the proposed project period.

3. The extent to which the plan: (a) Describes the sequence and timing of the major activities, tasks and subtasks, important milestones, and reports, and indicates when each will be accomplished (a timeline is recommended). The applicant's plan should provide quantitative monthly or quarterly projections of the accomplishments to be achieved for each function or activity in such terms as the number of people to be served and the number of activities accomplished. When accomplishments cannot be quantified by activity or function, the accomplishments are listed in chronological order to show the schedule of accomplishments and target dates.

4. The extent to which the applicant: (a) Specifies who will conduct the activities under each objective; (b) describes how subcontractors will be chosen and held accountable for carrying out activities in compliance with this application, and grant terms and conditions; (c) describes how actual and perceived conflict of interest will be avoided if the Local Council is also a direct service provider; and (d) indicates how programs, services, and activities will be provided based on the family's ability to pay (for those services that customarily require a payment).

5. The extent to which the applicant describes how the project will form collaborations among local early learning, youth, social service, educational providers (including faith-based organizations) and, as appropriate, organizations that can facilitate distance learning, to maximize resources and concentrate efforts on areas of greatest need.

6. The extent to which the applicant describes its work with local educational agencies to identify cognitive, social, emotional, and motor developmental abilities, which are necessary to support children's readiness for school.

7. The extent to which the applicant's programs, services, and activities assisted under ELOA will represent developmentally appropriate steps toward the acquisition of those abilities.

8. The extent to which the applicant's programs, services, and activities assisted under this announcement provide benefits for children cared for in their own homes as well as children placed in the care of others.

9. The extent to which the applicant's plan: (a) Describes how the project will be structured and managed; (b) defines the procedures to be used to determine whether the project is being conducted in a manner consistent with the work plan; (c) lists organizations, cooperating entities, consultants, or other key individuals who will work on the project along with a short description of the nature of their effort or contribution to the project; (d) discusses the impact of the project's various activities on the project's effectiveness including factors that may affect project implementation or outcomes and presents realistic strategies for resolution of these difficulties; (e) describes how timeliness of activities will be ensured, how quality control will be maintained, and how costs will be controlled; and (f) describes how unanticipated problems will be resolved to ensure that the project will be completed on time and with a high degree of quality.

10. If the project includes the use of any distance learning techniques in support of informal or isolated child care providers, the extent to which the purposes of distance learning are clearly described and appropriate objectives are identified for specific types of child care providers. (If distance learning is not an element of the project, then this sub-criterion does not apply.)

Criterion 3. Results and Benefits Expected (15 Points)

1. The extent to which the applicant specifies the number of children and families to be served and how the services to be provided will be funded consistent with the results of the needs assessment.

2. The extent to which the applicant explains how the expected results will benefit the population to be served in meeting its needs for early learning services and activities.

3. The extent to which the applicant demonstrates that completion of the proposed objectives will result in specific, measurable results.

Criterion 4. Evaluation (15 Points)

1. The extent to which the applicant appropriately links its needs and resources assessment, proposed activities, and anticipated results and benefits, and describes how the proposed evaluation will demonstrate the effectiveness of its activities and services in addressing the needs identified under its needs and resources assessment. The applicant must demonstrate how the results or benefits identified for each objective will serve as standards for evaluating the achievement of objectives at the end of the project period (i.e., 17 months).

2. The extent to which the applicant's evaluation plan includes a process component that describes the activities of the project, how the project will operate, how well the design was followed, and the extent to which it produced the expected results. It should contain an outcome component with output and outcome measures. For example, in addition to numbers of families and children served, what benefits did families derive from these services?

3. The extent to which the applicant that demonstrates the relationships among the needs identified in the needs and resources assessment, the activities/interventions proposed, and anticipated results and benefits. For example, the applicant could provide a diagram (logic model) for demonstration purposes.

4. The extent to which the design and implementation of its evaluation plan is methodologically sound, appropriate to the activities/interventions implemented, and demonstrates the extent to which program goals/objectives will be achieved.

5. The extent to which the applicant has allocated sufficient funds in the project budget to implement the proposed evaluation activities.

6. The extent to which the evaluation plan reflects sensitivity to technical, logistical, cultural, and ethical issues that may arise and includes realistic strategies for the resolution of difficulties.

7. The extent to which the evaluation plans adequately protects human subjects, confidentiality of data, and consent procedures, as appropriate.

8. If any distance learning technique is to be employed, the extent to which it is related to specific desired results for specified providers and there is a means by which to test for these results or contrast the results of distance learning with other techniques for providing information and assistance and supporting quality among child care providers. (If distance learning is not an element of the project, this sub-criterion does not apply.)

Criterion 5. Staff and Position Data/Organizational Profiles (10 Points)

1. The extent to which the applicant (Local Council) provides information and evidence of its management and administrative structure including its organizational capacity, and if applicable, that of its Fiscal Agent. Organizational capacity includes: (a) Demonstrated ability to manage a project of the proposed size and scope; (b) demonstrated successful experience with the target population; (c) a Local Council (and/or designated individuals) that is qualified and experienced to manage the project; (d) a demonstrated commitment to developing and sustaining working relationships among key stakeholders; (e) demonstrated experience and commitment of any third parties including consultants; and (f) an appropriate organizational structure, including the management information system, to implement the project.

2. The extent to which the applicant (Local Council) demonstrates its staff and organizational experience particularly in areas of facilitating needs and resources assessments and collaborative activities as they relate to early learning services. The applicant must also document its experience in facilitating such activities and the length of time the applicant has been involved in these activities. The application clearly shows the successful management of projects of similar scope by the organization, and/or by the individuals designated to manage the project.

3. The extent to which the applicant provides position descriptions and/or resumes of key personnel, including those of consultants, which clearly relate to the personnel staffing required to achieve the ELOA project objectives and the proposed budget. The position descriptions and resumes must clearly describe the qualifications, any specialized skills, and duties for each position necessary for overall quality of the project. Resumes must be included if individuals have been identified for positions in the application. The applicant must also list organizations and consultants who will participate in the project along with a short description of the nature of their effort or contribution.

4. The extent to which the applicant describes its agency including the types, quantities, and costs of services it provides. The applicant must discuss the role of other organizations that will be involved in providing direct services to children and families through this grant.

5. If the Local Council plans to work with a fiscal agent, that entity, its qualifications, and its relationship to the Council must be described. The extent to which the applicant and/or its fiscal agent demonstrates that it has sufficient fiscal and accounting capacity to ensure prudent use, proper disbursement, and accurate accounting of funds.

6. The extent to which the applicant provides organizational charts for the Local Council, its members, and any third-party, including a list of all sites, addresses, phone numbers, and staff contacts and titles.

7. The extent to which the applicant demonstrates active participation of the entire Local Council in the development of its application and the project, including a description of the ongoing role of the Local Council in the implementation of the project, and methods for documenting its participation. Such evidence includes but is not limited to minutes of council meetings, council resolutions, newspaper articles, and community surveys.

8. The extent to which the applicant includes third-party agreements with cooperating entities, which detail the scope of work to be performed, work schedules, remuneration, and any other terms and conditions that structure or define the relationship. Information about new agreements that will be executed with subgrantees, contractors, or other cooperating entities should also be included. If no written agreements exist, sample/draft agreements may be submitted.

9. The extent to which the applicant demonstrates support for the project from parents, the community at-large, and other key leaders and stakeholders.

10. The extent to which the applicant demonstrates a feasible plan for securing resources and continuing project activities, if applicable, after Federal assistance has ceased. The applicant should demonstrate its understanding that the ACF is interested in funding projects that will be completed, self-sustaining, or financed by other than ELOA funds at the end of the project period.

Criterion 6. Budget and Budget Justification (10 Points)

1. The extent to which the applicant demonstrates that the funds requested will be used for early learning services that are allowed under this announcement. The discussion must refer to (1) the budget information presented on Standard Forms 424 and 424A and the applicant's budget justification and (2) the results or benefits identified under Criterion 3 above.

2. The extent to which the project's costs are reasonable in view of the activities to be carried out, that the funds are appropriately allocated across component areas, and that the budget is sufficient to accomplish the objectives.

3. The extent to which the applicant's narrative budget justification provides detailed calculations that describe how the categorical costs are derived. Detailed calculations must include estimation methods, quantities, unit costs, and other similar quantitative detail sufficient for the calculation to be duplicated. For example: To compute salary costs for a full-time employee who will be employed for the entire 17-months of the ELOA project, divide the annual salary by 12 and then multiply by 17. To compute the costs for a full-time employee who will be paid by the hour for the entire 17-month project, multiply 2,947 hours by the hourly wage. The full-time equivalent for a 12-month position is 2,080 hours. The applicant should specify the costs for the entire 17-month ELOA project period, not separate costs into 12-month and a five-month budgets.

4. The extent to which the applicant provided sufficient funds in the project budget to implement the proposed evaluation activities.

5. If there is a distance learning component of the project, and that component includes evaluation of the efficacy of any distance learning technique(s) for child care providers, the extent to which the costs of that evaluation are adequately considered and provided for in the budget.

6. Funds must be allocated to allow two representatives from the Local Council to attend one two-day grantee meeting in Washington, DC.

7. Applicants are encouraged to provide Letter(s) of Commitment from the State, local public and private organizations/agencies, and any other source that will be contributing toward the Applicant's non-Federal share of project costs. The Letter(s) of Commitment should state the amount to be contributed and the form of the contribution (i.e., cash or in-kind). Note: Letter(s) of Commitment are not to be confused with Letter(s) of Support or with the Letter of Designation by an Entity of Local Government.

Part V. Application and Selection Process

A. Assistance to Prospective Grantees

Potential grantees should direct questions about application process and forms to the ACYF Operations Center at 1-800-351-2293 and refer to the Program Announcement No. ACYF-PA-CCB-2003-01. Questions about the ELOA program requirements may be directed to Carol L. Gage, ELOA Federal Project Officer, at (202) 690-6243 or cgage@acf.hhs.gov.

B. Application Requirements

To be considered for a grant, each application must be submitted on the forms provided in the application package and in accordance with the guidance provided in Parts V and VI below.

C. Paperwork Reduction Act of 1995 (Public Law 104-13)

Public reporting burden for this collection of information is estimated to average eight hours per response, including the time for reviewing instructions, gathering and maintaining the data needed, and reviewing the collection of information.

The project description is approved under Office of Management and Budget (OMB) Control Number 0970-0139, which expires December 31, 2003.

An agency may not conduct or sponsor, and a person is not required to respond to, a collection of information unless it displays a currently valid OMB control number.

D. Notification Under Executive Order 12372

This program announcement is not covered under Executive Order 12372, “Intergovernmental Review of Federal Programs,” and 45 CFR Part 100, “Intergovernmental Review of Department of Health and Human Services Program and Activities.”

E. Availability of Forms and Other Materials

A copy of the standard forms that must be submitted as part of an application and instructions for completing the application are provided in the application package. These standard forms can also be downloaded and printed from the following Web site: http://www.acf.hhs.gov/programs/ofs/forms.htm.

Additional copies of this announcement may be obtained by calling 1-800-351-2293.

F. Application Consideration and Selection

Each application will undergo an eligibility and conformance review by Federal Child Care Bureau staff. Applications that pass the eligibility and conformance review will be evaluated on a competitive basis according to the evaluation criteria in Part IV of this program announcement. This review will be conducted in Washington, DC by panels of Federal and non-Federal experts knowledgeable in the areas of literacy, early learning, child care, early childhood education, and other relevant program areas.

Application review panels will assign a score to each application and identify its strengths and weaknesses. The Child Care Bureau will conduct an administrative review of the applications and results of the competitive review panels and make recommendations for funding to the Commissioner, ACYF.

Subject to the recommendation of the Child Care Bureau's Associate Commissioner, the Commissioner, ACYF, will make the final selection of the applications to be funded. Applications may be funded in whole or in part depending on: (1) The ranked order of applicants resulting from the competitive review; (2) staff review and consultations; (3) the combination of projects that best meets the Bureau's objectives; (4) the funds available; (5) the statutory requirement that reserves funds for Indian Tribes, Alaska Native Regional Corporations, and Native Hawaiian entities; and (6) other relevant considerations. The Commissioner may also elect not to fund any applicants with known management, fiscal, reporting, program, or other problems, which make it unlikely that they would be able to provide effective services.

Successful applicants will be notified through the issuance of a Financial Assistance Award that sets forth the amount of funds granted, the terms and conditions of the grant award, the effective date of the award, and the budget period for which support is given, and the total project period for which support is provided. Organizations whose applications will not be funded will be notified in writing by the Commissioner, ACYF. Every effort will be made to notify all unsuccessful applicants as soon as possible after final decisions are made.

Part VI. Submission Instructions

A. Contents of Application

A complete application consists of the following items in the order listed:

1. Application for Federal Assistance (Standard Form 424, REV 4-92). Follow the instructions on the back of the form. In Item 5 on the SF-424, enter the name of the applicant [Local Council]. Enter the Employer Identification Number (EIN) of the Local Council, or if applicable, its Fiscal Agent, in Item 6. In Item 8 on the SF-424, check “New.” In Item 10, clearly identify the Catalog of Federal Domestic Assistance program title and number (i.e., Early Learning Opportunities Act, 93.577). A signature on the application constitutes an assurance that the applicant will comply with the relevant Departmental regulations contained in 45 CFR part 74 or part 92.

2. Budget Information—Non-Construction Programs (Standard Form 424A). Follow the instructions on the back of the form.

3. Assurances—Non-Construction Programs (Standard Form 424B). A duly authorized representative of the applicant organization must certify that the applicant is in compliance with these assurances and certifications. The applicant must certify its compliance with: (1) Drug-Free Workplace Requirements; (2) Debarment and Other Responsibilities; (3) Pro-Children Act of 1994 (Certification Regarding Environmental Tobacco Smoke). A signature on the SF 424 indicates compliance with the Drug Free Workplace Requirements, Debarment and Other Responsibilities and Environmental Tobacco Smoke Certifications.

4. Certification Regarding Lobbying. Applicants must include an executed Certification Regarding Lobbying prior to receiving an award in excess of $100,000.

5. A Cover Letter that includes the announcement number and contact information for the applicant. The letter must be signed by an individual authorized to act for the applicant agency and to assume responsibility for the obligations imposed by terms and conditions of the grant award.

6. A signed Letter(s) of Designation for the Local Council from a local government entity(ies) that explains its authority to make such a designation.

7. Information on the membership composition of the Local Council.

8. A Tribal Resolution, if applicable.

9. A Table of Contents.

10. A Project Description Summary/Abstract (one page maximum)—Clearly mark this page with the applicant's name as shown in Item 5 on the SF-424, identify the title of the proposed project as shown in Item 11, and the service area as shown in Item 12 of the SF-424. The Project Description Summary/Abstract must not exceed 300 words. The first paragraph must describe the precise location of the project and the boundaries of the area to be served including the following: The State, county(ies), specific locality(ies) (e.g., city, county, borough, township, parish, etc.) and/or region(s). Care should be taken to produce a Summary/Abstract that accurately and concisely reflects the proposed project. It should briefly describe the objectives of the project, the approach to be used, and the results and benefits expected.

11. The Project Narrative. The applicant is strongly encouraged to use the evaluation criteria in Part IV to organize its response to Part III, the Uniform Project Description. Specific information should be provided that addresses all components of each criterion. It is in the applicant's best interest to ensure that the project description is easy to read, logically developed in accordance with the evaluation criteria, and adheres to recommended page limitations. In addition, the applicant should be mindful of the importance of preparing and submitting applications using language, terms, concepts, and descriptions that are generally known to the field of early learning as defined under this announcement.

The pages of the project description must be double-spaced, printed in black only, printed on only one side, with no less than one-inch margins, and numbered. Applicants are strongly encouraged to limit this portion of their application to no more than 100 pages.

12. Appendices. The recommended maximum number of pages for supporting documentation is 50 numbered pages. These documents might include excerpts from the needs and resources assessment, resumes/job descriptions, photocopies of news clippings, documents related to the involvement and participation of the Local Council, and evidence of its efforts to coordinate early care and education services at the local level including letters of support and/or third-party agreements.

B. Submission of Application

To be considered for funding, the applicant must submit one signed original and two copies of the application, including all attachments, to the application receipt point specified above. The original copy of the application must have original signatures, signed in blue ink. The original must be stapled (back and front) in the upper left corner. Rubber bands may be used to secure the pages of the two copies. The original application and the two copies must be submitted in a single package.

Each application will be duplicated, therefore, please do not use or include colored paper, colored ink, separate covers, binders, clips, tabs, plastic inserts, over-sized paper, videotapes, or any other items that cannot be easily duplicated on a photocopy machine with an automatic feed. Do not bind, clip, staple, or fasten in any way separate subsections of the application, including the supporting documentation. Applicants are advised that a copy (not the original) of the application as submitted will be reproduced by the Federal government for review by the panel of evaluators.

Dated: June 19, 2003.
Joan E. Ohl,
Commissioner, Administration on Children, Youth and Families.

Appendix A.—Sample 1—Letter of Designation of the Local Council by an Entity of Local Government

DATE

To Whom It May Concern:

Under the authority granted by the [Specify Source of Authority to Act on behalf of the Entity of Local Government], I/We hereby designate the [Insert Name of Local Council] as the eligible Local Council for the [Insert the name(s) of localities to be served by the Local Council (e.g., city(ies), county(ies), borough(s), etc.)] for the purposes of applying for a discretionary grant under the Early Learning Opportunities Act (ELOA) program. I/We also authorize the [Insert Name of Local Council] to develop and submit an application to the Administration on Children, Youth and Families, Child Care Bureau in response to the ELOA Program Announcement No. ACYF-PA-CCB-2003-01, and to administer the implementation of the project if funded.

As required under the statute governing ELOA, the [Insert Name of Local Council] includes: (1) Representatives of local agencies that will be directly affected by early learning programs assisted under the ELOA and this announcement; (2) parents; (3) other individuals concerned with early learning issues in the locality, such as representatives of entities providing elementary education, child care resource and referral services, early learning opportunities, child care, and health services; and (4) other key community leaders.

The [Insert Name of Local Council] was responsible for preparing and submitting the enclosed application for the ELOA discretionary grant program.

Sincerely,

Signed and dated by the authorized entity of local government (e.g., mayor, city/county manager, city/county executive, city/county council, board of supervisors, select board, etc.)

Appendix B.—Sample 2—Letter of Designation of the Local Council and identification of the Fiscal Agent by an Entity of Local Government

DATE

To Whom It May Concern:

Under the authority granted by the [Specify Source of Authority to Act on behalf of the Entity of Local Government], I/We hereby designate the [Insert Name of Local Council] as the eligible Local Council for the [Insert the name(s) of localities to be served by the Local Council (e.g., city(ies), county(ies), borough(s), etc.)] for the purposes of the Early Learning Opportunities Act (ELOA) discretionary grant program. I/We also authorize the [Insert Name of Local Council] to develop and submit an application to the Administration on Children, Youth and Families, Child Care Bureau in response to the ELOA Program Announcement No. ACYF-PA-CCB-2003-01, and to administer the implementation of the project if funded.

I/We hereby authorize the [Insert Name of Fiscal Agent] to serve as the Fiscal Agent for the [Insert Name of Local Council] and the Fiscal Agent's Employer Identification Number (EIN) is: ___ and this EIN has been entered in Item 6 on the Application for Federal Assistance (SF-424).

As required under the statute governing ELOA, the [Insert Name of Local Council] includes: (1) Representatives of local agencies that will be directly affected by early learning programs assisted under the ELOA and this announcement; (2) parents; (3) other individuals concerned with early learning issues in the locality, such as representatives of entities providing elementary education, child care resource and referral services, early learning opportunities, child care, and health services; and (4) other key community leaders.

The [Insert Name of Local Council] was responsible for preparing and submitting the enclosed application for the ELOA discretionary grant program.

Sincerely,

Signed and dated by the authorized entity of local government (e.g., mayor, city/county manager, city/county executive, city/county council, board of supervisors, select board, etc.)

Appendix C.—Sample Format for Providing Information on the Composition of the Local Council

Members name | Title | Agency | Role
L.M. Zilka | Superintendent | Emerald City Public Schools | C
Jessica Lawson | Director | Happy Days Child Care Center | A
Tanja Bos | Director | Child Care Resource and Referral | C
Angela Bower | Director | Head Start | B
Monica Parkzes | Director | County Health Department | C
Marsha Staimer | Chair | Emerald City Chamber of Commerce | D
Peggy Jo Picard | Family Child Care Provider |  | C
Sarah Kyrklund | Autism Consultant | Emerald City Public Schools | A
Susan Mali | Parent of Young Child |  | B
Susan LaCombe | President | Emerald County Community College | A
Alberta Halvorsen | VP | Emerald City United Way Services | D
Frank Chavez | County Manager | Emerald County | D
Christopher Lawson | Parent of Young Child |  | B
Harriet Kelsey | Director | Emerald County Social Services | C
Morena Flores | Director | La Puerta Fundacion | D
T.V. Reid | President | Emerald City Bank | D
Alex Mejia | Director | Early Childhood Services, Inc. | A
Amelia Traversie | Program Parent | Parents and Teachers | B
Ngozi Onunaku | Director | Emerald City Child Care Consortium | A
Nick Maynard | Director, Special Education | Emerald City Elementary School | A
Legend:
A = Representatives of local agencies that will be directly affected by early learning programs assisted under the ELOA and this announcement.
B = Parents.
C = Other individuals concerned with early learning issues in the locality, such as representatives of entities providing elementary education, child care resource and referral services, early learning opportunities, child care, and health services.
D = Other key community leaders.

Appendix D.—FY 2001 Early Learning Opportunity Act Grantees and Geographic Service Areas

Twenty-six Early Learning Opportunity Act (ELOA) grants were awarded in FY 2001. Listed below is the name of each grantee, the title of its project, its geographic service area, and its expiration date. These 26 grants were all originally awarded a 17-month project period (i.e., September 30, 2001-February 28, 2003). However, 24 of the 26 grantees have received no cost extensions to their project period end dates. The length of the extensions varies from grantee to grantee with the shortest extension being two months and the longest being 12 months, the maximum allowed. The project period for each grantee is specified below. If you have questions, you may contact Carol L. Gage, the Federal Project Officer for these ELOA grants, at 202-690-6243 or cgage@acf.hhs.gov.

• Alameda County Children and Families Commission, San Leandro, CA 94577

Hand-in-Hand: The Alameda County Early Learning Partnership.

Project Period: September 30, 2002-June 30, 2003.

Alameda County is located on the eastside of San Francisco Bay and extends from the cities of Berkeley and Albany in the north to Fremont in the south. Alameda County is bounded on the north by Contra Costa County, on the south by Santa Clara County, on the southeast corner by Stanislaus County, on the east by San Joaquin County, and on the west by the San Francisco Bay.

• Bristol Bay Native Association, Dillingham, AK 99576

Bristol Bay Native Association Early Learning Opportunities Program.

Project Period: September 30, 2002-February 28, 2004.

The Bristol Bay region is located in Southwest Alaska. Its regional boundaries under the Alaska Native Claims Settlement Act extend about 350 miles North to South, and about 230 miles East to West. The region consists of 32 communities, 29 of which are federally recognized tribes. There are three separate census divisions: Bristol Bay Borough Census Area (three communities), the Dillingham Census Area (12 communities), and the Lake and Peninsula Borough Census Area (17 communities).

• Central Council Tlingit & Haida Indian Tribes of Alaska, Juneau, AK 99801

Encircled in a Blanket of Wellness: Children's Early Learning Mental Health

Project Period: September 30, 2002-October 31, 2003.

This project serves the geographic area known as “Southeast Alaska” including the three large communities of Juneau, Sitka, and Ketchikan, and approximately 20 other communities. Southeast Alaska is a 600-mile long island archipelago and coastal strip also referred to as the “panhandle” of the state. The panhandle stretches from the Tsimpshian Native Village of Metlakatla in the South, to the Tlingit Native Village of Yakutat in the North.

• Community Connections, Inc., Bluefield, WV 24701

Mercer County Early Learning Project.

Project Period: September 30, 2002-February 28, 2004.

This is a county-wide project. Mercer County is located in the most southern part of West Virginia. The largest population base is located in the city of Bluefield; the County seat is Princeton.

• Community Coordinated Child Care, Hillside, NJ 07205

Union County Early Learning Opportunities Project.

Project Period: September 30, 2002-June 30, 2003.

Union County is at the center of the New York-New Jersey Metropolitan-Region, along the Boston—Washington Corridor. It is bounded by Essex County to the north, Morris and Somerset Counties to the west, and Middlesex County to the south. The Arthur Kill waterway separates the County from Staten Island, New York to the east. The County seat is Elizabeth.

• Durham's Partnership for Children, Durham, NC 27707

The Literacy and School Readiness Enhancement Pilot Project.

Project Period: September 30, 2002-August 30, 2003.

This project serves Durham and Orange Counties. These counties are contiguous counties that are located in the Research Triangle area of central North Carolina.

• Early Childhood Care and Education Council of Multnomah County, Portland, OR 97204

Multnomah County Components of Early Learning.

Project Period: September 30, 2002-June 30, 2003.

The service area is Multnomah County, which includes the City of Portland.

• Fairbanks North Star Borough Early Childhood Development Commission (FNSB), Fairbanks, AK 99707

For all Families, A Community Model: Providing Early Childhood Education for Families and Communities and Promoting Excellence in Child Care in the FNSB.

Project Period: September 30, 2002-October 31, 2003.

The Borough is located in the central eastern half of Alaska and includes Fairbanks, Alaska and many surrounding small communities and rural areas covering 7,361 square miles.

• Family Central, Inc. on Behalf of Broward School Readiness Coalition, Inc., Fort Lauderdale, FL 33316

Broward Investment in Quality Care for Kids (BrIQCK).

Project Period: September 30, 2002-June 30, 2003.

Broward County is bounded by Miami-Dade County on the south, the Everglades and Collier County on the West, Palm Beach County on the north, and the Atlantic Ocean on the east. Major cities include Fort Lauderdale, Hollywood, and Pompano Beach.

• Foundation for Early Learning, Seattle, WA 98115

Strengthening Early Learning Opportunities in King County Communities.

Project Period: September 30, 2002-May 30, 2003.

This is a county-wide project serving King County including the City of Seattle.

• Gritman Medical Center on Behalf of the Early Childhood Service Council, Moscow, ID 83843

Early Learning Collaborative Project In A Rural Region of Northern Idaho.

Project Period: September 30, 2002-September 29, 2003.

This is a county-wide project in Latah County, which is located in North Central Idaho.

• Lenawee Intermediate School District, Adrian, MI 49221

Lenawee's Child (Helping to Increase Learning and Development).

Project Period: September 30, 2002-February 28, 2003.

Lenawee County is located in South Central Michigan along the Ohio border.

• Mid-America Regional Council (MARC), Kansas City, MO 64105

Early Childhood Excellence Project.

Project Period: September 30, 2002-June 30, 2003.

MARC serves as the association of city and county governments and the metropolitan planning organization for the bi-state Kansas City region. MARC serves an eight county area that includes Cass, Clay, Jackson, Platte, and Ray Counties in Missouri and Johnson, Leavenworth, and Wyandotte Counties in Kansas.

• Mid Coast Access to Child Care, Nobleboro, ME 04555

Enhancing Quality of Early Care.

Project Period: September 30, 2002-February 28, 2003.

The boundaries of the service area include the Counties of Waldo, Knox, Lincoln, and Sagadahoc County. It also includes the communities of Brunswick and Harpswell located within the northernmost part of Cumberland County.

• Mono County Office of Education on Behalf of the Mono County Child Care Council, Mono, CA 93546

Eastern Sierra Early Learning Collaborative.

Project Period: September 30, 2002-December 31, 2003.

The service area includes Alpine and Mono Counties in the eastern part of California.

• Napa County Office of Education on Behalf of the Napa County Child Care Planning Council, Napa, CA 97558

The E.A.R.L.Y. Project: Enhancing Accessibility and Readiness for Learning by Young Children.

Project Period: September 30, 2002-June 30, 2003.

Napa County is located in the Northern San Francisco Bay area, southwest of Sacramento, north of Oakland/Berkeley, and northeast of San Francisco.

• New Haven Public Schools, New Haven, CT 06519

New Haven Early Learning Opportunities Program.

Project Period: September 30, 2002-February 28, 2004.

The geographic location of the targeted service area is the City of New Haven. New Haven consists of 20 different neighborhoods and a federally-designated Empowerment Zone.

• People's Regional Opportunity Program, Portland, ME 04101

Cumberland County ACCESS/CITE Partnership for Child Care.

Project Period: September 30, 2002-June 30, 2003.

The geographic area covered by this partnership is the cities and towns in Cumberland County with the exception of Brunswick, Harpswell, and South Harpswell.

• San Bernardino County Human Services System, San Bernardino, CA 92415

San Bernardino Early Learning Opportunities Project.

Project Period: September 30, 2002-February 28, 2004.

This is a county-wide project in San Bernardino County, which is located in the center of Southern California. It is bounded by the States of Arizona and Nevada, and the Counties of Riverside, Los Angeles, Inyo, and Orange.

• San Mateo County Superintendent of Schools on Behalf of the San Mateo County Child Care Partnership Council, Redwood City, CA 94065

San Mateo County Early Learning Project.

Project Period: September 30, 2002-April 30, 2003.

San Mateo County is bounded by the Pacific Ocean to the west, the San Francisco Bay to the east, San Francisco to the north, and the City of San Jose and the County of Santa Clara to the south. It includes the cities of Redwood City, San Mateo, Daly City, East Palo Alto, Menlo Park, and South San Francisco.

• Southern Iowa Economic Development Association on Behalf of the Mahaska-Wapello Empowerment Area, Ottumwa, IA 52501

Parents As Teachers Expansion Program.

Project Period: September 30, 2002-June 30, 2003.

The Mahaska-Wapello Empowerment Area includes the six Counties of Appanoose, Davis, Jefferson, Keokuk, Mahaska, and Wapello. These Counties are located in the lower three tiers of Southern Iowa.

• United Way of Greater Tucson, Tucson, AZ 85754

First Focus on Kids: Coordinating Early Learning Opportunities for Children and Their Families.

Project Period: September 30, 2002-August 31, 2003.

This project serves the following zip codes in and around the City of Tucson: 85705-06, 85710, 85711-13, 85716, 85719, 85730, and 85745-46.

• United Way of New York City, New York, NY 10016

New York City Early Learning Project.

Project Period: September 30, 2002-October 31, 2003.

This project serves the five Boroughs of New York City including Brooklyn, Bronx, Manhattan, Queens, and Staten Island.

• United Way Services, Richmond, VA 23241

Greater Richmond Early Development Coalition.

Project Period: September 30, 2002-August 31, 2003.

The geographic area served by this Coalition includes the City of Richmond, and the Counties of Chesterfield and Henrico.

• United Way of Southeastern Pennsylvania, Philadelphia, PA 19103

Children Ready: Invest in Success.

Project Period: September 30, 2002-February 28, 2004.

The project boundary is the City of Philadelphia.

• Youth Health Service, Inc., Elkins, WV 26241

Quality Care: Improving the Quality of Early Learning Services in Two Impoverished Rural Counties.

Project Period: September 30, 2002-August 31, 2003.

The target communities of this project are in Barbour and Randolph Counties in the north and west central parts of West Virginia.

Appendix E.—FY 2002 Early Learning Opportunity Act Grantees and Geographic Service Areas

Thirty-one Early Learning Opportunity Act (ELOA) grants were awarded in FY 2002. Listed below is the name of each grantee, the title of its project, and its geographic service area. The 17-month project period for these grants is September 30, 2002-February 28, 2004. The Federal Project Officer for these ELOA grants is Carol L. Gage, who can be reached at 202-690-6243 or cgage@acf.hhs.gov.

• Beaufort County Council on behalf of the Beaufort County Early Childhood Coalition, Beaufort, SC 29901

Beaufort County Early Childhood Coalition.

This is a county-wide project in Beaufort County.

• Broome Community College on behalf of the Broome County Early Childhood Coalition, Binghampton, NY 13902

Building Brighter Futures For Broome.

This is a county-wide project in Broome County.

• Cambridge Public Schools on behalf of Cambridge 0-8 Council, Cambridge, MA 02141

Accelerating Language and Literacy for Children, Families, and Providers.

The project boundary is the city of Cambridge.

• Communities in Schools of Caldwell County Inc., Lenoir, NC 28645

Early Learning Opportunities Movement.

This project serves Caldwell County, a rural county of 450 square miles located in the foothills of Appalachia in northwestern North Carolina. Lenoir is the County's largest town and county seat.

• DC Department of Human Services, Washington, DC 20032

DC Early Learning Opportunities Program.

The District of Columbia is 53 square miles in area and is divided into eight political subdivisions or wards. This project will serve Wards 1, 7, and 8.

• Easter Seals New Hampshire on behalf of the Early Learning Lasts a Lifetime Local Council of Southeastern New Hampshire, Manchester, NH 03103

Links to Early Learning.

This project serves all of Rockingham and Strafford Counties in southeastern New Hampshire (the Seacoast region), which is bordered by Maine to the east, Massachusetts to the south and Merrimack and Hillsborough Counties of New Hampshire to the north and west, respectively.

• Economic Development and Industrial Corporation on behalf of the 0-8 Coalition, Boston, MA 02114

Boston Learns: An Early Literacy Collaborative for Children, Families, and Educators.

This is a city-wide project serving the city of Boston including Mattapan, Roslindale and Hyde Park, three of Boston's neighborhoods.

• Educational Service District 112 on behalf of the Support Early Learning and Families Local Council, Vancouver, WA 98661

Every Moment Counts: Achieving School Readiness in Clark County.

This project serves Clark County, located in southwestern Washington. It is across the Columbia River from Portland, Oregon.

• El Paso Community College on behalf of the Strong Families, Strong Future Council, El Paso, TX 79998

Using a Promotor de Salud to Promote Early Learning in At-Risk Populations along the US-Mexico Border.

El Paso County is located in the far west corner of Texas, and is bordered by Mexico to the south, Hudspeth County, TX to the east, and the New Mexico state line to the north and west.

• Fairfax County Board of Supervisors, Fairfax, VA 22035

Fairfax Collaborative.

The geographic area served is Fairfax County including the cities of Falls Church and Fairfax.

• Family Connection Partnership, Atlanta, GA 30303

South Georgia EXCEL (Excellence in Childcare and Learning).

This project serves the counties of Coffee, Crisp, Mitchell, and Turner.

• Franklin Northwest Supervisory Union on behalf of the Franklin County Early Childhood Advisory Council, Swanton, VT 05488

Franklin County Early Learning Opportunities Project.

This is a county-wide project in Franklin County, which is in the northwestern corner of Vermont, bordered by Canada, Lake Champlain, and the Green Mountains.

• Good Beginnings Alliance, Honolulu, HI 96813

Expanding Oahu's Early Learning Opportunities.

The island of Oahu is the geographic area to be covered by this project, with special attention focused on the communities of Waianae, Waimanalo, and Kalihi.

• Hampton Roads Partnership, Norfolk, VA 23510

Square One School Readiness Initiative.

This project will serve the area known as Hampton Roads a region including 17 localities in the southeastern corner of the Commonwealth of Virginia. Hampton Roads localities are the cities of Chesapeake, Franklin, Hampton, Newport News, Norfolk, Poquoson, Portsmouth, Smithfield, Suffolk, Virginia Beach, and Williamsburg and the counties of Gloucester, Isle of Wight, James City, Southampton, Surry, and York.

• Health Improvement Partnership of Spokane County on behalf of the Spokane Regional Child Care Initiative, Spokane, WA 99201

Strengthening Early Learning in Spokane County.

This is a county-wide project in Spokane County.

• Heart of West Michigan United Way on behalf of the Kent County Family and Children's Coordinating Council, Grand Rapids, MI 49503

Connections For Children.

This is a county-wide project in Kent County located in West Michigan.

• Huntington West Virginia Housing Authority on behalf of the Cabell-Wayne Early Childhood Council, Huntington, WV 25701

ERASE (Education, Rurality, Accessibility, Service, and Economic) Barriers Project.

This project serves the communities in both Cabell and Wayne County.

• Lancaster County First Steps, Lancaster, SC 29720

Lancaster County First Steps.

This is a county-wide project in Lancaster County.

• Lowell Public Schools District on behalf of Lowell Community Partnership for Children, Lowell, MA 01852

Lowell Community Partnerships for Children Early Learning Opportunities Initiative.

This project serves the city of Lowell (Middlesex County).

• Mayor's Literacy Task Force, Chandler, AZ 85225

Chandler Steps to Learning Project: A Community-based Early Learning and Parent Assistance Program.

This project will serve the city of Chandler located in Maricopa County.

• Miami-Dade School Readiness Coalition, Miami, FL 33129

Early Authors Program.

This is a county-wide project serving Miami-Dade County, which is located in southeastern, Florida, bounded by the Atlantic Ocean to the east, Broward County to the north, and Monroe County to the south and west. The extreme northwest corner of Miami-Dade County is bounded by Collier County.

• Minneapolis Youth Coordinating Board, Minneapolis, MN 55415

Minneapolis Youth Coordinating Board Readiness Initiative.

This project boundary is the city of Minneapolis.

• Osage Tribe of Indians of Oklahoma, Pawhuska, OK 74056

Osage Nation Early Learning Center.

This project will serve Osage County in Northeastern Oklahoma, which is also known as the Osage Indian Tribal Reservation.

• South Plains Community Action Association, Inc. on behalf of South Plains Early Childhood Council, Levelland, TX 79336.

On the Road with Literacy.

The geographic area served includes the following 15 counties in the South Plains area of west Texas: Bailey, Cochran, Crosby, Dickens, Garza, Hale, Hockley, Lamb, Floyd, Lynn, Lubbock, Terry, King, Motely, and Yoakum.

• The Clayton Foundation, Denver, CO 80205

Early Learning Opportunities Project.

The project will serve the city and county of Denver.

• The Providence Plan on behalf of the Ready to Learn Providence Local Council, Providence, RI 02903

Ready to Learn Providence

This project will serve the city of Providence.

• Town of Manchester on behalf of the Manchester School Readiness Council, Manchester, CT 06040

Manchester Early Learning Opportunities Project.

This project serves the Town of Manchester in Hartford County. Manchester is located in the north central region of Connecticut, and is nine miles east of the capital city of Hartford, and approximately 95 miles from Boston, Massachusetts.

• United Way of Harrisonburg & Rockingham County, Inc., Harrisonburg, VA 22803

The Reading Road Show Early Literacy Initiative.

The areas to be served by this project are Rockingham County and the City of Harrisonburg, which are centrally located in the Shenandoah Valley in west-central Virginia. The county is bounded on the west by the Allegheny Mountains and on the east by the crest of the Blue Ridge Mountains.

• United Way of Southeastern Idaho, Pocatello, ID 83204

Bannock County Ready to Learn Project.

This is a county-wide project in Bannock County located in southeast Idaho.

• Webster County Board of Education on behalf of the Early Care and Education Consortium, Webster Springs, WV 26288

More by Four—Ready by Five.

This is a county-wide project in Webster County, which is located in the central part of the state.

• Western Maine Centers for Children on behalf of Western Maine Access, Wilton, ME 04294

Western Maine ACCESS Early Learning Opportunity Grant.

The geographic area served by this project is Androscoggin, Franklin, and Oxford Counties.

[FR Doc. 03-16099 Filed 6-24-03; 8:45 am]

BILLING CODE 4184-01-P